DEPARTMENT OF COMMERCE

Foreign-Trade Zones Board

[S-213-2025]

Approval of Subzone Status; General Electric Company; Peebles, Ohio

On July 10, 2025, the Executive Secretary of the Foreign-Trade Zones (FTZ) Board docketed an application submitted by the Greater Cincinnati FTZ, Inc., grantee of FTZ 46, requesting subzone status subject to the existing activation limit of FTZ 46, on behalf of General Electric Company, in Peebles, Ohio.

The application was processed in accordance with the FTZ Act and Regulations, including notice in the Federal Register inviting public comment (90 FR 31601, July 15, 2025). The FTZ staff examiner reviewed the application and determined that it meets the criteria for approval. Pursuant to the authority delegated to the FTZ Board Executive Secretary (15 CFR 400.36(f)), the application to establish Subzone 46N was approved on August 26, 2025, subject to the FTZ Act and the Board's regulations, including section 400.13, and further subject to FTZ 46's 2,000-acre activation limit.

Dated: August 26, 2025.
Elizabeth Whiteman,
Executive Secretary.

[FR Doc. 2025-16588 Filed 8-28-25; 8:45 am]

BILLING CODE 3510-DS-P